DEPARTMENT OF ENERGY

Federal Energy Regulatory Commission

[Docket No. RP95-408-037]

Columbia Gas Transmission Corporation; Notice of Filing

April 12, 2000.

Take notice that on April 3, 2000, Columbia Gas Transmission Corporation (Columbia) filed to report on the sharing with its customers of a portion of the profits from the sale of certain base gas as provided in Columbia's Docket No. RP95-408 rate case settlement. (See Stipulation II, Article IV, Sections A through E, in Docket No. RP95-408 approved at Columbia Gas Transmission Corp., 79 FERC ¶ 61,044 (1997)).

Columbia states that the sales of base gas have generated additional profits of $12,454,242 (above a $21.4 million threshold) requiring a sharing of 10 percent of the excess profits with customers and $58,577 (above a $41.5 million threshold) requiring a sharing of 50 percent of the excess profits with customers in accordance with Stipulation II, Article IV, Section C. Consequently, $1,292,013, inclusive of interest, has been allocated to affected customers and credited to their April invoices, which credits remain subject to Commission acceptance of this filing.

Columbia states that copies of its filing have been mailed to all affected customers and state commissions.

Any person desiring to protest said filing should file a protest with the Federal Energy Regulatory Commission, 888 First Street, NE, Washington, DC 20426, in accordance with § 385.211 of the Commission's rules and regulations. All such protests must be filed on or before April 19, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-9595 Filed 4-17-00; 8:45 am]

BILLING CODE 6717-01-M